DEPARTMENT OF TRANSPORTATION

Office of the Secretary

[Docket No. DOT-OST-2015-0255]

Request for Comments

AGENCY: Office of the Secretary, U.S. Department of Transportation.

ACTION: Notice and request for comments.

SUMMARY: In accordance with the Paperwork Reduction Act of 1995 (44 U.S.C. 3501 et seq.), this notice announces that the U.S. Department of Transportation (DOT) will forward the Information Collection Request (ICR) abstracted below to the Office of Management and Budget (OMB) for clearance. The ICR describes the nature of the information collection and its expected cost and burden hours. The Federal Register Notice, with a 60-day comment period soliciting comments on the questionnaire, was published on December 30, 2015, [FR Vol. 80, No. 250, page 81671]. One comment was received.

DATES: Comments on this notice must be received by April 29, 2016.

ADDRESSES: Interested persons are invited to submit comments regarding this proposal to the DOT/OST Desk Officer, Office of Information and Regulatory Affairs, Office of Management and Budget, Docket Library, Room 10102, 725 17th Street NW., Washington, DC 20503, or by email to oira_submission@omb.eop.gov.

FOR FURTHER INFORMATION CONTACT: Sam Brooks, Equal Opportunity Specialist (S-33), Departmental Office of Civil Rights, Office of the Secretary, U.S. Department of Transportation, 1200 New Jersey Avenue SE., Washington, DC 20590, 202-366-7145.

SUPPLEMENTARY INFORMATION: Form Title(s): Voluntary Web-Based Questionnaire of Airport Concession Disadvantaged Business Enterprises and Disadvantaged Business Enterprise Firms.

Form Number: None.

OMB Control Number: None.

Abstract: The DOT's Operating Administrations distribute substantial funds each year to finance construction projects initiated by state and local governments, public transit and airport agencies. The DOT has the important responsibility of ensuring that firms competing for DOT-assisted contracts for these projects are not disadvantaged by unlawful discrimination. The DOT's most important tool for meeting this requirement has been its Disadvantaged Business Enterprise (DBE) program, which originally began in 1980 as a minority/women's business enterprise program established by regulation under the authority of Title VI of the Civil Rights Act of 1964 and other nondiscrimination statutes that apply to DOT financial assistance programs. The DBE program was reauthorized by Congress several times since its inception; most recently in the “Fixing America's Surface Transportation Act” or the “FAST-ACT,” (P.L. 114-94, December 4, 2015), See more at: https://www.transportation.gov/civil-rights/disadvantaged-business-enterprise#sthash.67nZv63S.dpuf, which funded surface transportation programs for highways, highway safety, and transit. Section 1101(b) of the Act describes Congress's findings regarding the continued need for the DBE program due to the discrimination and related barriers that pose significant obstacles for minority and women-owned businesses seeking federally-assisted surface transportation work. The DBE program focuses primarily on construction and professional services contracts, while the airport concession disadvantaged business enterprise (ACDBE) program focuses on lease and supplier agreements for food, beverage, retail, and car rental services. Congress raised concerns that discrimination and related barriers continue to pose obstacles to disadvantaged firms seeking to do business at U.S. airports. The information requested will assist DOT in measuring whether both programs are achieving the objectives to create a level playing field on which ACDBEs/DBEs can compete fairly and assist in the development of ACDBE/DBE firms to compete successfully in the marketplace.

The single comment that was received by DOT during the 60-day comment period was provided by a trade association and had four components. The association (1) asked DOT to use the data collection measure to address the issue of out-of-date DBE directories; (2) observed that prime contractors need better information on the types of construction work DBEs are able to perform; (3) requested that the questionnaire “query DBE firms on the issue of training;” and (4) asked DOT to evaluate the responses regarding perceived barriers or challenges from the perspective of all parties. After careful consideration, DOT makes due note of all four components. Only items (1) and (3) appear to request changes to proposed questions. However, as these items are not strictly germane to the stated purpose (measuring the objective of creating a level playing field) of the questionnaire, the Department respectfully declines to alter the content of the questions.

The questionnaire will be for the use of ACDBE and DBE certified firms, so that they can provide information regarding the nature of their business and bidding history, and perceived barriers/challenges that may have prevented them from receiving a contract or successfully competing in DOT's ACDBE/DBE program. A link to the questionnaire will be made available by DOT's Departmental Office of Civil Rights for use by the Department's state and local recipients, which can in turn post this link on their own Web sites. The information collected will be used to assist DOT in measuring whether the ACDBE/DBE program is achieving its objectives. The DOT estimates that it takes an individual approximately 10 minutes to complete the questionnaire.

Type of Request: New information collection.

Affected Public: Airport Concession Disadvantaged Business Enterprises and Disadvantaged Business Enterprises certified under the authority of 49 CFR parts 23 and 26.

Total Annual Estimated Burden: 628 hours.

Frequency of Collection: An individual's completion of the questionnaire is solely voluntary.

Comments are Invited on: Any aspect of this information collection, including

(a) whether the proposed collection of information is necessary for the proper performance of DOT's ACDBE/DBE program; (b) the accuracy of the estimated burden; (c) ways for the Department to enhance the quality, utility and clarity of the information collection; and (d) ways that the burden could be minimized without reducing the quality of the collected information. Comments should be sent to the address in the preamble. All responses to this notice will be summarized and included in the request for Office of Management and Budget approval. All comments will also become a matter of public record.

Issued in Washington, DC, on March 23, 2016.
Habib Azarsina,
OST Privacy and PRA Officer, U.S. Department of Transportation.

[FR Doc. 2016-07132 Filed 3-29-16; 8:45 am]

BILLING CODE 4910-9X-P